DEPARTMENT OF COMMERCE

National Oceanic and Atmospheric Administration

[RTID 0648-XF037]

Takes of Marine Mammals Incidental to Specified Activities; Taking Marine Mammals Incidental to the Naval Base Point Loma Deperming Pier Replacement Project and the Naval Base San Diego Chollas Creek Quay Wall Repair Project in San Diego Bay, California

Correction

In notice document 2026-02173, appearing on pages 4875 through 4904 in the issue of Tuesday, February 3, 2026, make the following correction:

On page 4895, in Table 7, the column headings should read:

Site, activity, pile size/type | Level A harassment zone (m): LFC Gray whales | Level A harassment zone (m): HFC Bottlenose, common dolphins | Level A harassment zone (m): OW CSL | Level A harassment zone (m): PW Harbor seals | All marine mammals Level B harassament zone (m)

[FR Doc. C1-2026-02173 Filed 2-12-26; 8:45 am]

BILLING CODE 0099-10-D